DEPARTMENT OF HEALTH AND HUMAN SERVICES

Health Resources and Services Administration

Advisory Committee on Organ Transplantation; Notice of Meeting

In accordance with section 10(a)(2) of the Federal Advisory Committee Act (Pub. L. 92-463), notice is hereby given of the following meeting:

Name: Advisory Committee on Organ Transplantation.

Date and Times: March 8, 2011, 7:30 a.m. to 5 p.m.

Place: Georgetown University Hotel and Conference Center, 3800 Reservoir Road, NW., Washington, DC 20057.

Status: The meeting will be open to the public.

Purpose: Under the authority of 42 U.S.C. 217a, Section 222 of the Public Health Service Act, as amended, and 42 CFR 121.12 (2000), ACOT was established to assist the Secretary in enhancing organ donation, ensuring that the system of organ transplantation is grounded in the best available medical science, and assuring the public that the system is as effective and equitable as possible, and, thereby, increasing public confidence in the integrity and effectiveness of the transplantation system. ACOT is composed of up to 25 members, including the Chair. Members are serving as Special Government Employees and have diverse backgrounds in fields such as organ donation, health care public policy, transplantation medicine and surgery, critical care medicine and other medical specialties involved in the identification and referral of donors, non-physician transplant professions, nursing, epidemiology, immunology, law and bioethics, behavioral sciences, economics and statistics, as well as representatives of transplant candidates, transplant recipients, organ donors, and family members.

Agenda: The Committee will hear reports from two ACOT Work Groups: Declining Rates of Donation/Geographical and Other Variations in Organ Distribution and Alignment of CMS Regulatory Requirements with OPTN. ACOT also will hear presentations on disease transmission and informed consent, transplant tourism, organ donation and transplantation alliance, a report on an intensive DMV outreach project demonstrating significant increases in Michigan donor registration, and OPO performance metrics for quality improvement. Agenda items are subject to change as priorities indicate.

After the presentations and Committee discussions, members of the public will have an opportunity to provide comments. Because of the Committee's full agenda and the timeframe in which to cover the agenda topics, public comment will be limited. All public comments will be included in the record of the ACOT meeting. Meeting summary notes will be made available on the Department's donation Web site at http://www.organdonor.gov/acot.html.

The draft meeting agenda is available on the Department's donation Web site at http://www.organdonor.gov/acot.html and at http://www.team-psa.com/dot/spring2011/ACOT/.

Registration can be completed electronically at http://www.team-psa.com/dot/spring2011/ACOT/ or submitted by facsimile to HRM/Professional and Scientific Associates (PSA), the logistical support contractor for the meeting, at fax number (703) 234-1701 ATTN: Brittany Carey. Individuals without access to the Internet who wish to register may call Brittany Carey with HRM/PSA at (703) 889-9033.

FOR FURTHER INFORMATION CONTACT: Patricia A. Stroup, MBA, MPA, Executive Secretary, Healthcare Systems Bureau, Health Resources and Services Administration, 5600 Fishers Lane, Room 12-105, Rockville, Maryland 20857; telephone (301) 443-1127 or e-mail to pstroup@hrsa.gov.

Dated: February 2, 2011.
Reva Harris,
Acting Director, Division of Policy and Information Coordination.

[FR Doc. 2011-2839 Filed 2-8-11; 8:45 am]

BILLING CODE 4165-15-P